DEPARTMENT OF ENERGY

Federal Energy Regulatory Commission

Combined Notice of Filings #2

Take notice that the Commission received the following electric corporate filings:

Docket Numbers: EC13-103-000.

Applicants: Midwest Generation, LLC.

Description: Application for Authorization for a Change in Control over Jurisdictional Facilities Under Section 203 of the Federal Power Act and Request for Shortened Notice Period and Expedited Consideration.

Filed Date: 5/6/13.

Accession Number: 20130506-5157.

Comments Due: 5 p.m. ET 6/14/13.

Take notice that the Commission received the following electric rate filings:

Docket Numbers: ER13-301-003.

Applicants: Southwest Power Pool, Inc.

Description: Compliance Filing—ER13-301—Mid-Kansas Electric Company Formula Rate to be effective 1/1/2013.

Filed Date: 5/8/13.

Accession Number: 20130508-5098.

Comments Due: 5 p.m. ET 5/29/13.

Docket Numbers: ER13-895-002.

Applicants: ISO New England Inc.

Description: Notice of Effective Date—Modify Day-Ahead Energy Market Schedule to be effective 5/23/2013.

Filed Date: 5/8/13.

Accession Number: 20130508-5095.

Comments Due: 5 p.m. ET 5/15/13.

Docket Numbers: ER13-1257-000.

Applicants: New England Power Pool Participants Committee, ISO New England Inc.

Description: Req. Eff. Date for Rev. to FAP and Billing Policy to be effective N/A.

Filed Date: 5/8/13.

Accession Number: 20130508-5100.

Comments Due: 5 p.m. ET 5/29/13.

Docket Numbers: ER13-1258-001.

Applicants: Land O'Lakes, Inc.

Description: Inquiry Response to be effective 6/14/2013.

Filed Date: 5/8/13.

Accession Number: 20130508-5000.

Comments Due: 5 p.m. ET 5/29/13.

Docket Numbers: ER13-1438-000.

Applicants: Public Service Company of New Mexico.

Description: Second Revised SPS Agreement to be effective 6/1/2013.

Filed Date: 5/8/13.

Accession Number: 20130508-5060.

Comments Due: 5 p.m. ET 5/29/13.

Docket Numbers: ER13-1438-001.

Applicants: Public Service Company of New Mexico.

Description: Substitute Service Agreement 317 to be effective 6/1/2013.

Filed Date: 5/8/13.

Accession Number: 20130508-5075.

Comments Due: 5 p.m. ET 5/29/13.

Docket Numbers: ER13-1439-000.

Applicants: Arizona Public Service Company.

Description: Arizona Public Service Company submits Notice of Cancellation of Rate Schedule No. 202.

Filed Date: 5/8/13.

Accession Number: 20130508-5079.

Comments Due: 5 p.m. ET 5/29/13.

Take notice that the Commission received the following foreign utility company status filings:

Docket Numbers: FC13-8-000.

Applicants: Ituiutaba Bioenergia Ltda.

Description: Self-Certification of Foreign Utility Company Status of Ituiutaba Bioenergia Ltda.

Filed Date: 5/8/13.

Accession Number: 20130508-5091.

Comments Due: 5 p.m. ET 5/29/13.

Docket Numbers: FC13-9-000.

Applicants: Central Itumbiara de Bioenergia e Alimen.

Description: Self-Certification of Foreign Utility Company Status of Central Itumbiara de Bioenergia e Alimentos S.A.

Filed Date: 5/8/13.

Accession Number: 20130508-5092.

Comments Due: 5 p.m. ET 5/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2013.
Nathaniel J. Davis, Sr.,
Deputy Secretary.

[FR Doc. 2013-11804 Filed 5-16-13; 8:45 am]

BILLING CODE 6717-01-P